DEPARTMENT OF HEALTH AND HUMAN SERVICES

Administration for Children and Families

Office of Refugee Resettlement

Statement of Organization, Functions, and Delegations of Authority

AGENCY: Administration for Children and Families, HHS.

ACTION: Notice.

SUMMARY: The Administration for Children and Families (ACF) has realigned the Office of Refugee Resettlement. It renames the Division of Influx Planning and Logistics to the Division of Planning and Logistics. It also creates one new division, which is the Division of Office Operations.

FOR FURTHER INFORMATION CONTACT: Heidi Stirrup, Office of Refugee Resettlement, 330 C Street SW, Washington, DC 20201; (202) 401-4556.

SUPPLEMENTARY INFORMATION: This notice amends Part K of the Statement of Organization, Functions, and Delegations of Authority of the Department of Health and Human Services (HHS), Administration for Children and Families (ACF), as follows: Chapter KR, Office of Refugee Resettlement, as last amended by 80 FR 33269-33270, June 11, 2015.

I. Under Chapter KR, Office of Refugee Resettlement, delete KR.10 Organization in its entirety and replace with the following:

KR.10 Organization. The Office of Refugee Resettlement (ORR) is headed by a Director, who reports directly to the Assistant Secretary for Children and Families. ORR is organized, as follows:

Office of the Director (KRA)

Division of Policy and Procedures (KRA1)

Division of Strategic Planning, Budget and Data Analysis (KRA2)

Division of Office Operations (KRA3)

Refugee Programs (KRB)

Division of Refugee Assistance (KRB1)

Division of Refugee Services (KRB2)

Division of Refugee Health (KRB3)

Unaccompanied Alien Children's Programs (KRC)

Division of Unaccompanied Alien Children's Operations (KRC1)

Division of Planning and Logistics (KRC2)

Division of Health for Unaccompanied Alien (KRC3)

II. Under Chapter KR, Office of Refugee Resettlement, deletes KR.20 Functions in its entirety and replaces it with the following:

KR.20 Function.

A. The Office of the Director is directly responsible to the Assistant Secretary for Children and Families for carrying out ORR's mission and providing guidance and general supervision to the components of ORR. The ORR Director provides direction in the development of program policy and budget and in the formulation of salaries and expense budgets. Program oversight is carried out by the Deputy Director for Unaccompanied Children's Program and the Deputy Director for Refugee Programs.

The ORR Director coordinates with the lead refugee and entrant program offices of other federal departments; provides leadership in representing refugee and entrant programs, policies and administration to a variety of governmental entities and other public and private interests; and acts as the coordinator of the total refugee and entrant resettlement effort for ACF and the Department. The ORR Director oversees the care and custody of unaccompanied alien children, grants specific consent for those who wish to invoke the jurisdiction of a state court for a dependency order to seek Special Immigrant Juvenile status, and makes placement determinations for those eligible for the Unaccompanied Refugee Minors (URM) Program. The Office of the Director develops regulations, legislative proposals, and routine interpretations of policy, implementing strategic initiatives and management priorities, and oversees communications for the office, including responses to media requests, congressional inquiries, and stakeholder engagements. Within the Office of the Director, the Public Affairs (PA) team provides leadership on tactical message development, relationship management, and content engagement planning for all ORR Divisions. ORR has a unique set of communication requirements demanding timely and strategic planning for engagement with the media, stakeholders, Congress, and its care provider network of grantee organizations.

ORR's PA team prioritizes the day-to-day strategic communication assignments to accommodate moderate to heavy workloads, shifting demands, emergency situations, and other operational needs. The Team provides strategic advice and recommendations to operational divisions, as well as senior officials on media relations activities, particularly message development and strategy for high-profile issues and complex communication challenges.

The Director of the Division of Policy and Procedures assesses and evaluates ORR programs and their legal authorities and proactively recommends policy development, regulation updates and changes, legislative proposals, and operational and management actions to comply with statutory parameters as they relate to each of the program areas. The Division advises the ORR Director, deputies, division directors, and staff on a wide range of significant and sensitive policy-related matters and strategies for attaining ORR policy objectives. The Division identifies major emerging policy issues, develops policy options and strategies, and implements policy initiatives, including the drafting of policies, guidance, and regulations. The Division consults with the ORR operating divisions in the creation and clearance of procedures, consistent with established regulations, policies and guidance, and implements training on policies and procedures for ORR staff. The Division of Policy and Procedures develops clearance and informational memoranda, briefing materials and summary statements for ORR, ACF, and the Department's leadership on complex and sensitive ORR matters. The Division collaborates with the ORR operating divisions and regional staff to clarify and enhance existing policies and guidance, particularly in areas where the work of two or more divisions overlap. The Director of the Division of Policy and Procedures serves as the ORR point of contact for other ACF and HHS offices related to legal and evaluation issues, such as the Office of the General Counsel (OGC), the Office of Legislative Affairs and Budget, the U.S. Government Accountability Office, and the Office of the Inspector General. The Division represents ORR on interagency working groups and collaborates with both government and private sector leaders on ORR policy-related issues and developments.

The Director of the Division of Strategic Planning, Budget and Data Analysis leads ORR in the development, tracking and implementation of strategic goals, and performs budget, data analysis and compliance functions for the office. The Division prepares annual budget estimates and related materials and performs allocation and tracking of funds for all programs. The Division performs analysis on the changing needs of the populations served by ORR programs, provides leadership to identify data needs and sources, and formulates data and reporting requirements. The Division also leads the office in the development of strategic goals and objectives and ensures that policies and operational and management activities are designed to achieve ORR, ACF, and Departmental goals.

This notice creates a new Division for Office Operations (DOO). The Director of DOO, in collaboration and coordination with ACF, provides advice and assistance to ORR managers in their personnel management activities, including recruitment, selection, position management, performance management, designated performance and incentive awards and employee assistance programs, and other services. DOO provides management, direction, and oversight of the following personnel administrative services: The exercise of appointing authority, position classification, awards authorization, performance management evaluation, personnel action processing and record keeping, merit promotion, special hiring, and placement programs. DOO serves as liaison between ACF, the Department, Staffing, Recruitment and Operations Center, and the Office of Personnel Management. It provides technical advice and assistance on personnel policy, regulations, and laws. DOO formulates and interprets policies pertaining to existing personnel administration and management matters, and formulates and interprets new human resource programs and strategies.

DOO administers the ACF Ethics program, the Personnel Security program, and the Drug Testing program in coordination with the Department's Office of Government Ethics, OGC, and the Office of Security and Drug Testing. The Office implements ACF travel policies and procedures consistent with federal requirements. The Office provides technical assistance and oversight, coordinates ORR use of the Travel Management System, manages employee participation in the Travel Charge Card program, and coordinates Travel Management Center services for ORR. It purchases and tracks common use supplies, stationery, and publications. The Division develops and implements policies and procedures for the Personal Property Management program, including managing the Personal Property Inventory, and other personal property activities. DOO performs the duties and responsibilities of managing Freedom of Information Act, SWIFT, Case Files, and Records Management. Creating DOO and consolidating teams will enhance mission and service delivery. DOO will centralize and better coordinate team's efforts, reduce administrative costs, and make it easier for managers to run programs to meet the comprehensive needs of their workforce.

B. The Refugee Programs are responsible for carrying out programs that provide assistance to refugees, asylees, Cuban and Haitian entrants, and certain Amerasians and victims of severe forms of trafficking in persons. In addition, Refugee Programs supports services to survivors of torture. The Deputy Director reports directly to the Director of ORR.

The Refugee Programs consist of the Division of Refugee Assistance, the Division of Refugee Services, the Division of Refugee Health, and the Unaccompanied Refugee Minors (URM) program.

The Director of the Division of Refugee Assistance represents ORR in coordinating services and capacity for refugees in a manner that helps refugees become employed and economically self-sufficient soon after their arrival in the United States. The Division monitors and provides technical assistance to the state-administered domestic assistance programs and Wilson/Fish projects. The Division works closely with each state in designing a resettlement program specific to the needs of incoming populations. The Division develops guidance and procedures for their implementation; manages special initiatives to increase refugee self-sufficiency such as through state funded discretionary grants or pilot programs. The Division also assists public and private agencies on data reporting and the resolution of reporting problems. The Division develops and supports the flow of information on refugee profiles and community resources in support of effective placement at the state and local level. The Division works closely with the Department of State to ensure effective and seamless orientation from overseas to local resettlement community. The Division manages the effective allocation of formula social services and targeted assistance in support of newly arriving populations and secondary resettlement. The Division tracks all state costs related to refugee assistance.

The Director of the Division of Refugee Services manages effective refugee resettlement through the programmatic implementation of grants, contracts, and special initiatives, such as the Match Grant Program. The Division oversees and monitors most ORR discretionary grants, recommends grantee allocation, coordinates with the grants management office to review the financial expenditures under discretionary grant programs, provides data in support of apportionment requests, and provides technical assistance on discretionary grants operations. The Division coordinates and provides liaison with the Department and other federal agencies on discretionary grant operational issues and other activities, as specified by the Director or required by Congressional mandate. The Division works to promote economic independence among refugees through social services, educational services, and intensive case management and community development initiatives.

The Director of the Division of Refugee Health provides direction for assuring that refugees are provided medical assistance and mental health services through the state-administered program and alternative privately administered programs. The Division ensures the quality of medical screening and initial medical treatment of refugees through its administration of grant programs, technical assistance and interagency agreements in support of comprehensive medical and mental health services. The Division also supports mental health services to victims of torture. The Division works closely with State Refugee Health Coordinators in the planning and provision of medical and mental health services to meet the individual needs of incoming populations. The Division monitors programs and tracks all state costs related to refugee medical assistance and screening.

Under the purview of the Deputy Director, the Unaccompanied Refugee Minors (URM) team provides oversight of foster care placement and services to unaccompanied refugee children and other special populations of youth in the United States. URM program services focus on the safety, education, well-being, and self-sufficiency of youth in care. The Team coordinates placement for eligible youth referred to the URM program and provides monitoring and oversight to the state-administered URM programs working closely with states to ensure sufficient capacity to serve all URM-eligible populations. The Team develops guidance and procedures for the administration and implementation of the URM program, and provides technical assistance on a variety of administrative, case, programmatic, financial, and policy matters. The Team also manages all data collected on youth served in the URM program.

C. The Unaccompanied Alien Children's Programs is directly responsible in providing care and services to unaccompanied alien children who are referred to ORR for care pending immigration status, or identified as victims of trafficking. The Unaccompanied Alien Children's Program consists of the Division of Unaccompanied Alien Children's Operations, the Division of Planning and Logistics, and the Division of Unaccompanied Alien Children's Health. The Program maintains statistical information and data on each child and any actions concerning the child while the child is under the Director's care. The Unaccompanied Alien Children's Programs includes compliance teams who conducts oversight of allegations of abuse, monitoring and inspections of facilities, and placement locations in which unaccompanied alien children reside. Unaccompanied Alien Children Program staff ensures that services are administered in a manner that supports child welfare standards of care and services and complete regular monitoring of service provision. The Deputy Director reports directly to the Director of ORR.

The Director of the Division of Unaccompanied Alien Children's Operations implements intake and placement decisions for all unaccompanied alien children. The Division supports specialized care through grants and contracts. The Division ensures consideration of the child's best interest in care and custody decisions. The Division coordinates all decisions related to sponsor reunification, background checks, home assessments, follow-up services, medical assessment and treatment, and repatriation. The Division administers the pro bono legal services and child advocate programs, and compiles a state-by-state list of professionals or entities qualified to provide the children with a guardian and attorney representational services. The Division also supports grants for services provided to children after their release from ORR care.

The Director leads the Division of Planning and Logistics and oversees the development of a comprehensive strategic plan to ensure that the Unaccompanied Alien Children Programs is able to anticipate and meet capacity needs. The Planning and Logistic Division will lead a continuous improvement plan. The Division prepares plans for temporary increases in shelter capacity and staffing, as well as temporary changes in ORR staffing to support continued Unaccompanied Children Program operations. The Division leads coordination with other federal agencies and work with other Unaccompanied Alien Children's divisions to support influx response. If ORR experiences an influx in referrals of unaccompanied children, the team leads influx response operations and logistics.

The Director of the Division of Unaccompanied Alien Children's Health oversees the provision of health and medical services to unaccompanied children in ORR care. The Division reviews and approves orders for complex medical procedures and reviews test results for certain medical ailments. The Division also ensures reporting of public health information to the appropriate public health authorities.

III. Continuation of Policy. Except as inconsistent with this reorganization, all statements of policy and interpretations with respect to organizational components affected by this notice within ACF, heretofore issued and in effect on this date of this reorganization are continued in full force and effect.

IV. Delegation of Authority. All delegations and re-delegations of authority made to officials and employees of affected organizational components will continue in them or their successors pending further re-delegations, provided they are consistent with this reorganization.

V. Funds, Personnel, and Equipment. Transfer of organizations and functions affected by this reorganization shall be accompanied in each instance by direct and support funds, positions, personnel, records, equipment, supplies, and other resources.

This reorganization will be effective upon date of signature.

Delegation of Authority. Directives or orders by the Assistant Secretary of the Administration of Children and Families, all delegations and redelegations of authority made to officials and employees of affected organizational components will continue in them or their successors pending further redelegations, provided they are consistent with this reorganization.

(Authority: 44 U.S.C. 3101.)

Dated: December 1, 2020.
Megan E. Steel,
Office of the Executive Secretariat, Administration for Children and Families.

[FR Doc. 2020-28706 Filed 12-28-20; 8:45 am]

BILLING CODE 4184-45-P